DEPARTMENT OF JUSTICE

Immigration and Naturalization Service

[INS No. 2186-02]

Immigration and Naturalization Service; First Meeting of the Data Management Improvement Act of 2000 Task Force

AGENCY: Immigration and Naturalization Service, Justice.

ACTION: Notice of meeting

Committee meeting: Immigration and Naturalization Service (INS) Data Management Improvement Act of 2000 (DMIA) Task Force.

Date and time: Wednesday, February 20, 2002, 1 to 5 p.m.

Place: Immigration and Naturalization Service Headquarters, 425 I Street NW., Washington, DC 20536, Shaughnessy Conference Room, Sixth Floor.

Status: Open. First meeting of the INS DMIA Task Force.

Purpose: In accordance with the provisions of the Federal Advisory Committee Act (FACA), as amended, 5 U.S.C. app. 2 , DMIA, Public Law 106-215, and 41 CFR Part 102-3, the Attorney General in consultation with the Secretary of State, the Secretary of Commerce, and the Secretary of the Treasury established a Task Force to carry out the duties described in section 3(c) of the DMIA. See 66 FR 3616-01 (January 16, 2001). Subsequent to the initial filing of the Task Force Charter with Congress in December 2000, Congress amended the DMIA to state that the Attorney General shall also consult with the new Office of Homeland Security in establishing the DMIA Trask Force. See USA Patriot Act of 2001, Public Law 107-56, section 415 (October 26, 2001)

The Task Force will evaluate and make recommendations on:

(1) How the Attorney General can efficiently and effectively carry out section1 10 of the Illegal Immigration Reform and Immigrant Responsibility act of 1996 (IIRIRA) (8 U.S.C. 1221 note), Public Law 104-208, as amended by DMIA, section 2.

(2) How the United States can improve the flow of traffic at airports, seaports, and land border ports-of-entry through:

(A) Enhancing systems for data collection and data sharing, including the integrated entry and exit data system described in IIRIRA, section 110 (as amended), by better use of technology, resources, and personnel;

(B) Increasing cooperation between the public and private sectors:

(C) Increasing cooperation among Federal agencies and among Federal and State agencies; and

(D) Modifying information technology systems while taking into account the different data systems, infrastructure, and processing procedures at airports, seaports, and land border ports-of-entry; and

(3) The cost of implementing each of the Task Forces recommendations.

Composition of Task Force: in accordance with the DMIA, section 3(b), the task force consists of the attorney general (or his designee) as chairperson and 16 representatives from Federal, State, and local agencies with interests in immigration and naturalization; travel and tourism; transportation; trade; law enforcement; national security; or the environment; and private sector representatives of affected industries and groups.

Summary of Agenda As this is the first meeting of the DMIA Task Force, the principal purpose of the meeting will be to introduce the members to each other and to discuss future activities of the Task Force. There also will be an overview of the requirements of the DMIA and a designated period of time for public comment. The DMIA Task Force will be chaired by Michael D. Cronin, Acting Executive Associate Commissioner, INS Office of Programs, on behalf of the Attorney General.

Public participation: The meeting is open to the public, but advance notice of attendance is requested to ensure adequate seating and to arrange for appropriate clearance into the building. Persons planning to attend should notify the contact person at least 5 days prior to the meeting. Members of the public may submit written statements at any time before or after the meeting to the contact person for consideration by the DMIA Task Force. Only written statements received by the contact person at least 5 days prior to the meeting will be considered for discussion at the meeting.

Contact person: Debbie Hemmes, Immigration and Naturalization Service, 425 I Street NW., Room 7236, Washington, DC 20536; telephone: (202) 305-9863; fax: (202) 616-7612; e-mail: Deborah.Hemes@usdoj.gov.

Dated: January 28, 2002.
James W. Ziglar,
Commissioner, Immigration and Naturalization Service.

[FR Doc. 02-2800 Filed 2-1-02; 10:33 am]

BILLING CODE 4410-10-M